COMMISSION ON CIVIL RIGHTS

Notice of Meetings; Sunshine Act

AGENCY: U.S. Commission on Civil Rights.

DATE AND TIME: Friday, February 17, 2006. 9:30 a.m. Commission Meeting.

PLACE: U.S. Commission on Civil Rights, 624 Ninth Street NW., Room 540, Washington, DC 20425.

STATUS:

Agenda

I. Approval of Agenda.

II. Approval of Minutes of January 20, 2006 Meeting.

III. Announcements.

IV. Staff Director's Report.

V. Briefing Reports.

• Voting Rights Act Briefing Report.

• Campus Anti-Semitism Briefing: Findings and Recommendations.

VI. Management and Operations.

• Working Group on the Budget.

• January 31, 2006, Commission Report to Senate Appropriations.

• Performance and Accountability Report.

• Correspondence From U.S. House Subcommittee on the Constitution.

• Creation of Working Group on Strategic Planning.

VII. State Advisory Committees.

• Commission Consideration of SAC Reports.

• SAC Chair Terms.

• Arizona SAC Report.

VIII. Future Briefings.

• Schedule for Future Briefings.

IX. U.S. House of Representatives Committee on the Judiciary.

• Briefing by Congressional Staff Regarding Future Planning.

FOR FURTHER INFORMATION CONTACT: Audrey Wright, Office of the Staff Director (202) 376-7700.

Kenneth L. Marcus,
Staff Director, Acting General Counsel.

[FR Doc. 06-1283 Filed 2-7-06; 4:13 pm]

BILLING CODE 6335-01-M